FEDERAL HOUSING FINANCE BOARD

Sunshine Act Meeting; Announcing an Open Meeting of the Board

Time and Date: 10:00 a.m., Wednesday, July 10, 2002.

Place: Board Room, Second Floor, Federal Housing Finance Board, 1777 F Street, NW., Washington, DC 20006.

Status: The entire meeting will be open to the public.

Matters To Be Considered During Portions Open to the Public:

• Federal Home Loan Bank of Indianapolis Capital Plan

• Federal Home Loan Bank of Des Moines Capital Plan

• Federal Home Loan Bank of Topeka Capital Plan

Contact Person for More Information: Elaine L. Baker, Secretary to the Board, (202) 408-2837.

James L. Bothwell,
Managing Director.

[FR Doc. 02-16954 Filed 7-2-02; 11:15 am]

BILLING CODE 6725-01-P